DEPARTMENT OF ENERGY

Agency Information Collection Revision and Renewal

AGENCY: U.S. Department of Energy.

ACTION: Notice and request for comments.

SUMMARY: The Department of Energy (DOE), pursuant to the Paperwork Reduction Act of 1995, intends to revise and renew an information collection request with the Office of Management and Budget (OMB) for its Privacy Act Request Form. Revisions include: Update to agency address, clarification of instructions for respondents, and changes to the part of the form entitled “For Agency Use Only.”

The Request Form is maintained in a Privacy Act system of records. Personal information is protected and disclosure is governed by provisions of the Privacy Act.

Comments are invited on: (a) Whether the collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before February 6, 2009. If you anticipate difficulty in submitting comments within that period, contact the person listed below as soon as possible.

ADDRESSES: Written comments may be sent to Verlette L. Gatlin, Deputy Director, Office of Information Resources, MA-90, 1000 Independence Avenue, SW., Washington, DC 20585 or by fax at (202) 586-0575 or e-mail at verlette.gatlin@hq.doe.gov.

FOR FURTHER INFORMATION CONTACT: Requests for additional information or copies of the information collection instrument and instructions should be directed to Verlette L. Gatlin at the addresses listed above.

SUPPLEMENTARY INFORMATION: This information collection request contains: (1) OMB No. 1910-1700; (2) Information Collection Request Title: Privacy Act Information Request; (3) Type of Review: Revision and Renewal; (4) Purpose: Use of the form to request records from the DOE is voluntary. The information in the form is used to establish the identity of the requester and to authorize agency personnel to locate and review records in a system of records established under the Privacy Act. Submitting a signed form supplements the identification process established in the DOE regulation that implements the Privacy Act at Title 10, Code of Federal Regulations, Section 1008.4, and reduces the burden to the requester to provide copies of identifying documents pursuant to that section. Use of the form also can reduce the processing time by the agency to provide records that may be necessary for claims under the Energy Employees Occupational Illness Compensation Program Act and other employment-related compensation programs; (5) Respondents: 2,500 annually; (6) Estimated Number of Burden Hours: .25 hour per response for respondents or 625 hours annually, including the time for reviewing instructions.

Statutory Authority: The Privacy Act of 1974, Title 5, United States Code, Section 552a; the Paperwork Reduction Act of 1995, Title 44, United States Code, Section 3501, et seq.

Issued in Washington, DC, on November 24, 2008.
Ingrid Kolb,
Director, Office of Management.

[FR Doc. E8-28939 Filed 12-5-08; 8:45 am]

BILLING CODE 6450-01-P